DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2017 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the fall 2016 agenda. The purpose of the Agenda is to provide information to the public on regulations that are currently under review, being proposed, or issued by Commerce. The agenda is intended to facilitate comments and views by interested members of the public.

Commerce's spring 2017 regulatory agenda includes regulatory activities that are expected to be conducted during the period April 1, 2017, through March 31, 2018.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its spring 2017 Unified Agenda of Federal Regulatory and Deregulatory Actions pursuant to Executive Order 12866 and the Regulatory Flexibility Act, 5 U.S.C. 601 et seq. Executive Order 12866 requires agencies to publish an agenda of those regulations that are under consideration pursuant to this order. By memorandum of March 2, 2017, the Office of Management and Budget issued guidelines and procedures for the preparation and publication of the spring 2017 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare Fishery Management Plans (FMPs) for the fisheries within their respective areas. Regulations implementing these FMPs regulate domestic fishing and foreign fishing where permitted. Foreign fishing may be conducted in a fishery in which there is no FMP only if a preliminary fishery management plan has been issued to govern that foreign fishing. In the development of FMPs, or amendments to FMPs, and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's spring 2017 regulatory agenda follows.

Michelle O. McClelland,
Performing the Delegated Duties of the General Counsel.

Bureau of the Census—Completed Actions
Sequence No. | Title | Regulation Identifier No.
17 | Foreign Trade Regulations: Clarification on Filing Requirements | 0607-AA55

International Trade Administration—Proposed Rule Stage
Sequence No. | Title | Regulation Identifier No.
18 | Covered Merchandise Referrals From the Customs Service | 0625-AB10

National Oceanic and Atmospheric Administration—Proposed Rule Stage
Sequence No. | Title | Regulation Identifier No.
19 | Comprehensive Fishery Management Plan for Puerto Rico | 0648-BD32
20 | Comprehensive Fishery Management Plan for St. Croix | 0648-BD33
21 | Comprehensive Fishery Management Plan for St. Thomas/St. John | 0648-BD34
22 | Omnibus Acceptable Biological Catch Framework Adjustment | 0648-BE65
23 | Modification of the Temperature-Dependent Component of the Pacific Sardine Harvest Guideline Control Rule to Incorporate New Scientific Information | 0648-BE77
24 | Fishing Capacity Reductions for Lobster Management Areas 2 and 3 | 0648-BF01
25 | International Fisheries; Western and Central Pacific Fisheries for Highly Migratory Species; Treatment of U.S. Purse Seine Fishing With Respect to U.S. Territories | 0648-BF41
26 | Omnibus Essential Fish Habitat Amendment 2 | 0648-BF82
27 | Voting Criteria for a Referendum on a Gulf of Mexico Reef Fish Catch Share Program for For-Hire Vessels With Landings Histories | 0648-BG36
28 | Unmanaged Forage Fish Omnibus Amendment | 0648-BG42
29 | Amendment 114 for Groundfish of the Bering Sea/Aleutian Islands Management Area and Amendment 104 for Groundfish of the Gulf of Alaska; Electronic Monitoring | 0648-BG54
30 | 2017 Summer Flounder and Scup Recreational Harvest Measures | 0648-BG68
31 | Designate Critical Habitat for the Hawaiian Insular False Killer Whale Distinct Population Segment | 0648-BC45

National Oceanic and Atmospheric Administration—Final Rule Stage
Sequence No. | Title | Regulation Identifier No.
32 | Pacific Coast Groundfish Fishing Capacity Reduction Loan Refinance | 0648-BE90
33 | Pacific Coast Groundfish Trawl Rationalization Program; Widow Rockfish Reallocation in the Individual Fishing Quota Fishery | 0648-BF12
34 | Amendment 18 to the Northeast Multispecies Fishery Management Plan | 0648-BF26
35 | Amendment 43 to the Fishery Management Plan for the Reef Fish Resources of the Gulf of Mexico | 0648-BG18
36 | Protected Species Hard Caps for the California/Oregon Large-Mesh Drift Gillnet Fishery | 0648-BG23
37 | Reducing Disturbances to Hawaiian Spinner Dolphins From Human Interactions | 0648-AU02
38 | Designation of Critical Habitat for the Gulf of Maine, New York Bight, and Chesapeake Bay Distinct Population Segments of Atlantic Sturgeon | 0648-BF28
39 | Regulation to Reduce Incidental Bycatch and Mortality of Sea Turtles in the Southeastern U.S. Shrimp Fisheries | 0648-BG45

National Oceanic and Atmospheric Administration—Long-Term Actions
Sequence No. | Title | Regulation Identifier No.
40 | Amendment 39 to the Fishery Management Plan for the Reef Fish Resources of the Gulf of Mexico | 0648-BD25
41 | Implementation of a Program for Transshipments by Large Scale Fishing Vessels in the Eastern Pacific Ocean | 0648-BD59
42 | Designation of Critical Habitat for the Arctic Ringed Seal | 0648-BC56
43 | Mallows Bay-Potomac River National Marine Sanctuary Designation | 0648-BG02

National Oceanic and Atmospheric Administration—Completed Actions
Sequence No. | Title | Regulation Identifier No.
44 | Capital Construction Fund; Fishing Vessel Capital Construction Fund Procedures | 0648-AW57
45 | Amendment 5b to the Highly Migratory Species Fishery Management Plan | 0648-BD22
46 | Regulatory Amendment 16 to the Fishery Management Plan for the Snapper-Grouper Fishery of the South Atlantic Region | 0648-BD78
47 | Magnuson-Stevens Fisheries Conservation and Management Act; Seafood Import Monitoring Program | 0648-BF09
48 | Allow the Use of Longline Pot Gear in the Gulf of Alaska Sablefish Individual Fishing Quota Fishery | 0648-BF42
49 | Atlantic Highly Migratory Species; Atlantic Blacknose Shark Commercial Retention Limit | 0648-BF49
50 | Amendment 113 to the FMP for Groundfish of the BSAI to Establish a Catcher Vessel Fishing Period and Shoreside Processing Delivery Requirements for Aleutian Islands Pacific Cod | 0648-BF54
51 | Specification of Management Measures for Atlantic Herring for the 2016-2018 Fishing Years | 0648-BF64
52 | Amendment 19 to the Atlantic Sea Scallop Fishery Management Plan | 0648-BF72
53 | Observer Coverage Requirements for Catcher Vessels Using Trawl Gear in the Bering Sea and Aleutian Islands Management Area | 0648-BF80
54 | Framework Amendment 1 to the Dolphin and Wahoo Fishery Management Plan of the Atlantic | 0648-BF81
55 | Amendment 103 to the Fishery Management Plan for Groundfish of the Gulf of Alaska to Reapportion Chinook Salmon Prohibited Catch in the Gulf of Alaska Trawl Fisheries | 0648-BF84
56 | Framework Action to Adjust the Red Grouper Allowable Harvest in the Gulf of Mexico | 0648-BG12
57 | Amendment 45 to the Fishery Management Plan for the Reef Fish Resources of the Gulf of Mexico | 0648-BG19
58 | Framework Adjustment 28 to the Atlantic Sea Scallop Fishery Management Plan | 0648-BG46
59 | Designation of Critical Habitat for the Carolina and South Atlantic Distinct Population Segments of Atlantic Sturgeon | 0648-BF32
60 | Endangered and Threatened Species; Critical Habitat for the Threatened Caribbean Corals | 0648-BG20

DEPARTMENT OF COMMERCE (DOC)

Bureau of the Census (CENSUS)

Completed Actions

17. Foreign Trade Regulations: Clarification on Filing Requirements

Legal Authority: 13 U.S.C. 301

Abstract: The Census Bureau issues this Final Rule amending the Foreign Trade Regulations (FTR) to reflect new export reporting requirements. Specifically, the Census Bureau is making changes related to the implementation of the International Trade Data System (ITDS), in accordance with the Executive Order 13659, Streamlining the Export/Import Process for American Businesses. The ITDS was established by the Security and Accountability for Every (SAFE) Port Act of 2006. The changes also include the addition of the original Internal Transaction Number (ITN) data element in the Automated Export System (AES). Lastly, the Census Bureau is making remedial changes to improve clarity of the reporting requirements.

Timetable:

Action | Date | FR Cite
NPRM | 03/09/16 | 81 FR 12423
NPRM Comment Period End | 05/09/16
Final Rule | 04/19/17 | 82 FR 18383
Final Rule Effective | 07/18/17

Regulatory Flexibility Analysis Required: Yes.

Agency Contact: Dale Kelly, Department of Commerce, Bureau of the Census, 4700 Silver Hill Road, Room 6K1285, Suitland, MD 20233, Phone: 301 763-6937, Email: dale.c.kelly@census.gov.

RIN: 0607-AA55

DEPARTMENT OF COMMERCE (DOC)

International Trade Administration (ITA)

Proposed Rule Stage

18. • Covered Merchandise Referrals From the Customs Service

Legal Authority: Pub. L. 114-125, sec 421

Abstract: The Department of Commerce (the Department) is proposing to amend its regulations to set forth procedures to address covered merchandise referrals from U.S. Customs and Border Protection (CBP or the Customs Service).

Timetable:

Action | Date | FR Cite
NPRM | 08/00/17

Regulatory Flexibility Analysis Required: Yes.

Agency Contact: Emily Beline, Department of Commerce, International Trade Administration, 1401 Constitution Avenue NW., Washington, DC 20230, Phone: 202 482-1096, Email: emily.beline@trade.gov.

RIN: 0625-AB10

DEPARTMENT OF COMMERCE (DOC)

National Oceanic and Atmospheric Administration (NOAA)

Proposed Rule Stage

National Marine Fisheries Service

19. Comprehensive Fishery Management Plan for Puerto Rico

Legal Authority: 16 U.S.C. 1801 et seq.

Abstract: This comprehensive Puerto Rico Fishery Management Plan will incorporate, and modify as needed, federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. If approved, this new Puerto Rico Fishery Management Plan, in conjunction with similar comprehensive Fishery Management Plans being developed for St. Croix and St. Thomas/St. John, will replace the Spiny Lobster, Reef Fish, Coral and Queen Conch Fishery Management Plans presently governing the commercial and recreational harvest in U.S. Caribbean exclusive economic zone waters.

Timetable:

Action | Date | FR Cite
NPRM | 04/00/18

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD32

20. Comprehensive Fishery Management Plan for St. Croix

Legal Authority: 16 U.S.C. 1801 et seq.

Abstract: This comprehensive St. Croix Fishery Management Plan will incorporate, and modify as needed, federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. If approved, this new St. Croix Fishery Management Plan, in conjunction with similar comprehensive Fishery Management Plans being developed for Puerto Rico and St. Thomas/St. John, will replace the Spiny Lobster, Reef Fish, Coral and Queen Conch Fishery Management Plans presently governing the commercial and recreational harvest in U.S. Caribbean exclusive economic zone waters.

Timetable:

Action | Date | FR Cite
NPRM | 04/00/18

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD33

21. Comprehensive Fishery Management Plan for St. Thomas/St. John

Legal Authority: 16 U.S.C. 1801 et seq.

Abstract: This comprehensive St. Thomas/St. John Fishery Management Plan will incorporate, and modify as needed, federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. If approved, this new St. Thomas/St. John Fishery Management Plan, in conjunction with similar comprehensive Fishery Management Plans being developed for St. Croix and Puerto Rico, will replace the Spiny Lobster, Reef Fish, Coral and Queen Conch Fishery Management Plans presently governing the commercial and recreational harvest in U.S. Caribbean exclusive economic zone waters.

Timetable:

Action | Date | FR Cite
NPRM | 04/00/18

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD34

22. Omnibus Acceptable Biological Catch Framework Adjustment

Legal Authority: 16 U.S.C. 1801 et seq.

Abstract: This action would make two administrative adjustments to the Mid-Atlantic Fishery Management Council's (Council) Omnibus Annual Catch Limit Amendment: (1) Adjust the Council's risk policy so that the Scientific and Statistical Committee may apply an average probability of overfishing when recommending multi-year Acceptable Biological Catches; and (2) make all of the Council's fishery management plans consistent in allowing new status determination criteria (overfishing definitions, etc.) to be accepted as the best available scientific information.

Timetable:

Action | Date | FR Cite
NPRM | 06/00/17

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE65

23. Modification of the Temperature-Dependent Component of the Pacific Sardine Harvest Guideline Control Rule To Incorporate New Scientific Information

Legal Authority: 16 U.S.C. 1801 et seq.

Abstract: Pursuant to a recommendation of the Pacific Fishery Management Council (Council) under the Magnuson-Stevens Act, the National Marine Fisheries Service is proposing to use a new temperature index to calculate the temperature parameter of the Pacific sardine harvest guideline control rule under the Fishery Management Plan. The harvest guideline control rule, in conjunction with the overfishing limit and acceptable biological catch control rules, is used to set annual harvest levels for Pacific sardine. The temperature parameter is calculated annually. The National Marine Fisheries Service determined that a new temperature index is more statistically sound and this action will adopt that index. This action also will revise the upper temperature limit to allow for additional sardine harvest where prior guidelines set catch unnecessarily low.

Timetable:

Action | Date | FR Cite
NPRM | 06/00/17

Regulatory Flexibility Analysis Required: Yes.

Agency Contact: Barry Thom, Regional Administrator, West Coast Region, Department of Commerce, National Oceanic and Atmospheric Administration, 1201 NE. Lloyd Boulevard, Suite 1100, Portland, OR 97232, Phone: 503 231-6266, Email: barry.thom@noaa.gov.

RIN: 0648-BE77

24. Fishing Capacity Reductions for Lobster Management Areas 2 and 3

Legal Authority: 16 U.S.C. 5101 et seq.

Abstract: This action proposes several reductions in fishing capacity for Lobster Management Areas 2 and 3. The proposed measures include: Caps on the number of traps that can be actively fished; caps on the number of traps associated with a permit (i.e., allowing trap banking); and caps on the number of traps or permits issued to a given owner. This action is intended to assist in rebuilding the Southern New England lobster stock.

Timetable:

Action | Date | FR Cite
NPRM | 12/00/17

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF01

25. International Fisheries; Western and Central Pacific Fisheries for Highly Migratory Species; Treatment of U.S. Purse Seine Fishing With Respect to U.S. Territories

Legal Authority: 16 U.S.C. 6901 et seq.

Abstract: This action would establish rules and/or procedures to address the treatment of U.S.-flagged purse seine vessels and their fishing activities in regulations issued by the National Marine Fisheries Service that implement decisions of the Commission for the Conservation and Management of Highly Migratory Fish Stocks in the Western and Central Pacific Ocean (Commission), of which the United States is a member. Under the Western and Central Pacific Fisheries Convention Implementation Act, the National Marine Fisheries Service exercises broad discretion when determining how it implements Commission decisions, such as purse seine fishing restrictions. The National Marine Fisheries Service intends to examine the potential impacts of the domestic implementation of Commission decisions, such as purse seine fishing restrictions, on the economies of the U.S. territories that participate in the Commission, and examine the connectivity between the activities of U.S.-flagged purse seine fishing vessels and the economies of the territories. Based on that and other information, the National Marine Fisheries Service might propose regulations that mitigate adverse economic impacts of purse seine fishing restrictions on the U.S. territories and/or that, in the context of the Convention on the Conservation and Management of Highly Migratory Fish Stocks in the Western and Central Pacific Ocean (Convention), recognize that one or more of the U.S. territories have their own purse seine fisheries that are distinct from the purse seine fishery of the United States and that are consequently subject to special provisions of the Convention and of Commission decisions.

Timetable:

Action | Date | FR Cite
ANPRM | 10/23/15 | 80 FR 64382
ANPRM Comment Period End | 11/23/15
NPRM | 06/00/17

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BF41

26. Omnibus Essential Fish Habitat Amendment 2

Legal Authority: 16 U.S.C. 1801 et seq.

Abstract: The New England Fishery Management Council voted to issue this update rulemaking that would revise the essential fish habitat and habitat areas of particular concern designation based on recent groundfish data. This rule would update groundfish seasonal spawning closures and identify Habitat Research Areas. The proposed revisions include adding a habitat management area in the eastern Gulf of Maine and modifying the existing habitat management areas in the central and western Gulf of Maine, while maintaining additional protections for large-mesh groundfish, including cod. In addition, the amendment would allow for the potential for development of a scallop access area within Georges Bank. A habitat management area would be established on Georges Shoal, with allowances for the clam dredge fishery. In Southern New England, a habitat management area in the Great South Channel would replace the current habitat protections further west. These revisions are intended to comply with the Magnuson-Stevens Act requirement to minimize to the extent practicable the adverse effects of fishing on essential fish habitat.

Timetable:

Action | Date | FR Cite
NPRM | 06/00/17

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF82

27. • Voting Criteria for a Referendum on a Gulf of Mexico Reef Fish Catch Share Program for For-Hire Vessels With Landings Histories

Legal Authority: 16 U.S.C. 1801 et seq.

Abstract: Amendment 42 to the Fishery Management Plan for Reef Fish Resources in the Gulf of Mexico (Amendment 42) proposes to establish a catch share program for up to five species of reef fish for headboats with landings history in the Southeast Region Headboat Survey. This rule would inform the public of the procedures, schedule, and eligibility requirements that NOAA Fisheries would use in conducting the referendum that is required before the Gulf of Mexico Fishery Management Council (Council) can submit Amendment 42 for Secretarial review.

Timetable:

Action | Date | FR Cite
NPRM | 08/00/17

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG36

28. • Unmanaged Forage Fish Omnibus Amendment

Legal Authority: 16 U.S.C. 1801 et seq.

Abstract: This amendment was initiated to prohibit the development of new—and expansion of existing—commercial and recreational fisheries in mid-Atlantic Federal waters that would exploit unmanaged forage fish species. This action would add unmanaged forage species as Ecosystem Component species to the relevant Mid-Atlantic Council fishery management plans. The Forage Amendment would establish: The list of forage species managed as Ecosystem Component species in the Mid-Atlantic region; Management measures for all forage Ecosystem Component species, except chub mackerel; Management measures for chub mackerel; a mechanism for establishing new fisheries or expansion of existing fisheries for Ecosystem Component species; and Administrative provisions for managing Ecosystem Component species (list of fisheries and fishing gear; permit requirement; monitoring; management unit; and framework measures).

Timetable:

Action | Date | FR Cite
Notice of Availability | 03/28/17 | 82 FR 15311
NPRM | 06/00/17

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BG42

29. • Amendment 114 for Groundfish of the Bering Sea/Aleutian Islands Management Area and Amendment 104 for Groundfish of the Gulf of Alaska; Electronic Monitoring

Legal Authority: 16 U.S.C. 1801 et seq.

Abstract: This regulation would make substantive improvements to the North Pacific Observer Program by giving certain vessels a choice to use electronic monitoring instead of observers for collecting fishery data. The North Pacific Fishery Management Council proposes to amend its fisheries research plan for the fixed gear groundfish and halibut fisheries of the Gulf of Alaska and Bering Sea and Aleutian Islands. The Council's fisheries research plan is implemented by the North Pacific Observer Program at the NMFS Alaska Fisheries Science Center, and its purpose is to collect data necessary for the conservation, management, and scientific understanding of the groundfish and halibut fisheries off Alaska. This action would allow an electronic monitoring system, which consists of a control center to manage the data collection, onboard vessels to monitor the harvest and discard of fish and other incidental catch at sea, as a supplement to existing human observer coverage.

Timetable:

Action | Date | FR Cite
Notice of Availability | 03/10/17 | 82 FR 13302
NPRM | 03/23/17 | 82 FR 14853
NPRM Comment Period End | 05/22/17
Final Action | 09/00/17

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG54

30. • 2017 Summer Flounder and Scup Recreational Harvest Measures

Legal Authority: 16 U.S.C. 1801 et seq.

Abstract: This rule would propose management measures—such as recreational possession limits, minimum fish sizes, and seasonal closures—to achieve recreational harvest limits for the 2017 summer flounder and scup recreational fisheries. Specifically, this action proposes establishing conservation equivalency in Federal waters for the 2017 recreational summer flounder fishery. Conservation equivalency means that management would defer to state management measures. If NMFS is unable to approve the Council's recommendation of conservation equivalency, the rule would propose coastwide measures to be effective in Federal waters. This rule would also propose to maintain the 2016 status quo recreational management measures for the scup fishery in 2017. The recreational harvest limits for these species were already established in a separate rulemaking.

Timetable:

Action | Date | FR Cite
NPRM | 06/00/17

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BG68

31. Designate Critical Habitat for the Hawaiian Insular False Killer Whale Distinct Population Segment

Legal Authority: 16 U.S.C. 1531 et seq.

Abstract: In 2012, NMFS listed as endangered the main Hawaiian Islands (MHI) insular false killer whale (Pseudorca crassidens) Distinct Population Segment (DPS). The Endangered Species Act (ESA) requires NMFS to designate critical habitat to support the conservation and recovery of newly listed species. Accordingly, this proposed rule would designate critical habitat for the MHI insular false killer whale DPS in waters around the MHI. NMFS will consider the economic, national security, or other relevant impacts of the proposed designation, and would consider excluding areas where such negative impacts would outweigh the benefits of critical habitat designation.

Timetable:

Action | Date | FR Cite
NPRM | 10/00/17

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC45

DEPARTMENT OF COMMERCE (DOC)

National Oceanic and Atmospheric Administration (NOAA)

Final Rule Stage

National Marine Fisheries Service

32. Pacific Coast Groundfish Fishing Capacity Reduction Loan Refinance

Legal Authority: 16 U.S.C. 1801 et seq.; 16 U.S.C. 1861 et seq.; 5 U.S.C. 561 et seq.

Abstract: The National Marine Fisheries Service issued proposed regulations to refinance the voluntary fishing capacity reduction loan program implemented in 2004 in the Pacific Coast groundfish Federal limited-entry trawl, Washington coastal Dungeness crab, and California pink shrimp fisheries (collectively known hereafter as the refinanced reduction fisheries). The refinance loan of up to $30 million could establish a new industry fee system for future landings of the refinanced reduction fisheries. Upon publishing a final rule and receipt of an appropriation, the National Marine Fisheries Service would conduct three referenda to refinance the existing debt obligation in each of the refinanced reduction fisheries. If a referendum in one, two, or all three of the fisheries is successful, that fishery's current loan will be repaid in full and a new loan in the amount of the principal and interest balance as of the date of funding will be issued. The terms were prescribed in the 2015 National Defense Authorization Act and include a 45-year term to maturity, interest charged at a current Treasury interest rate, and a maximum repayment fee of 3 percent of ex-vessel value.

Timetable:

Action | Date | FR Cite
NPRM | 08/06/15 | 80 FR 46941
NPRM Comment Period End | 09/08/15
Final Action | 09/00/17

Regulatory Flexibility Analysis Required: Yes.

Agency Contact: Brian Pawlak, Department of Commerce, National Oceanic and Atmospheric Administration, 1315 East-West Highway, Silver Spring, MD 20910, Phone: 301 427-8621, Email: brian.t.pawlak@noaa.gov.

RIN: 0648-BE90

33. Pacific Coast Groundfish Trawl Rationalization Program; Widow Rockfish Reallocation in the Individual Fishing Quota Fishery

Legal Authority: 16 U.S.C. 1801 et seq.

Abstract: In January 2011, the National Marine Fisheries Service implemented the groundfish trawl rationalization program (a catch share program) for the Pacific coast groundfish limited entry trawl fishery. The program was implemented through Amendments 20 and 21 to the Pacific Coast Groundfish Fishery Management Plan and the corresponding implementing regulations. Amendment 20 established the trawl rationalization program, which includes an Individual Fishing Quota program for limited entry trawl participants, and Amendment 21 established fixed allocations for limited entry trawl participants. During implementation of the trawl individual fishing quota program, widow rockfish was overfished and the initial allocations were based on its overfished status and management as a non-target species. The National Marine Fisheries Service declared the widow rockfish rebuilt in 2011 and, accordingly, the Pacific Fishery Management Council has now recommended actions to manage the increased abundance of widow rockfish. The action would reallocate individual fishing quota widow rockfish quota share to facilitate directed harvest and would lift the moratorium on widow rockfish quota share trading.

Timetable:

Action | Date | FR Cite
NPRM | 06/29/16 | 81 FR 42295
NPRM Comment Period End | 07/29/16
Final Action | 06/00/17

Regulatory Flexibility Analysis Required: Yes.

Agency Contact: Barry Thom, Regional Administrator, West Coast Region, Department of Commerce, National Oceanic and Atmospheric Administration, 1201 NE. Lloyd Boulevard, Suite 1100, Portland, OR 97232, Phone: 503 231-6266, Email: barry.thom@noaa.gov.

RIN: 0648-BF12

34. Amendment 18 to the Northeast Multispecies Fishery Management Plan

Legal Authority: 16 U.S.C. 1801 et seq.

Abstract: Amendment 18 to the Northeast Multispecies Fishery Management Plan would make necessary minor administrative adjustments to several groundfish sectors, as well as minor adjustments to fishing activity designed to protect fishery resources while maximizing flexibility and efficiency. Specifically, it would include the following management measures: Creating an accumulation limit for either the holdings of Potential Sector Contribution or of Northeast multispecies permits; creating a sub-annual catch limit that Handgear A permits could enroll in and other measures pertaining to fishing with Handgear A permits; adjusting what fishery data are considered confidential, specifically the price of annual catch entitlement transferred within a sector or leased between sectors; establishing an inshore/offshore boundary within the Gulf of Maine with associated measures, including creation of a Gulf of Maine cod sub-annual catch limit, adjusting the Gulf of Maine Gear Restricted Area boundary to align with the inshore/offshore boundary, and creating declaration time periods for fishing in the inshore or offshore areas; and establishing a Redfish Exemption Area, in which vessels could fish with a smaller mesh net than the standard mesh size, targeting redfish.

Timetable:

Action | Date | FR Cite
Notice of Availability | 12/06/16 | 81 FR 87862
NPRM | 12/20/16 | 81 FR 92761
NPRM Comment Period End | 02/03/17
Final Action | 06/00/17

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF26

35. Amendment 43 to the Fishery Management Plan for the Reef Fish Resources of the Gulf of Mexico

Legal Authority: 16 U.S.C. 1801 et seq.

Abstract: Based on a recent stock assessment and per the Magnuson-Stevens Fishery Conservation and Management Act, action is needed to adjust management measures for the Gulf of Mexico (Gulf) hogfish stock to prevent overfishing and achieve optimum yield. Consistent with the stock assessment, this action would redefine the geographic range of the Gulf hogfish stock, set the status determination criteria, and set the annual catch limits. This action would also revise the hogfish minimum size limit to reduce the likelihood of a season closure due to the annual catch limit being reached and remove the provision in the regulations that exempts hogfish from the prohibition on the use of powerheads to take Gulf reef fish in the Gulf stressed area.

Timetable:

Action | Date | FR Cite
Notice of Availability | 11/04/16 | 81 FR 76908
NPRM | 11/23/16 | 81 FR 84538
NPRM Comment Period End | 12/23/16
Final Action | 06/00/17

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG18

36. Protected Species Hard Caps for the California/Oregon Large-Mesh Drift Gillnet Fishery

Legal Authority: 16 U.S.C. 1801 et seq.

Abstract: The National Marine Fisheries Service intends to establish two-year rolling hard caps (i.e., limits) on the numbers of certain marine mammals and sea turtles observed killed or injured in the California/Oregon large-mesh drift gillnet fishery. The caps would be established for five marine mammal species and four sea turtle species. When any of the caps are reached or exceeded, the fishery would close for the rest of the fishing season and possibly through the following season. This measure was recommended by the Pacific Fishery Management Council in September 2015.

Timetable:

Action | Date | FR Cite
NPRM | 10/13/16 | 81 FR 70660
NPRM Comment Period Extended | 11/23/16 | 81 FR 84546
NPRM Comment Period End | 11/28/16
Comment Period End | 12/28/16
Final Action | 06/00/17

Regulatory Flexibility Analysis Required: Yes.

Agency Contact: Barry Thom, Regional Administrator, West Coast Region, Department of Commerce, National Oceanic and Atmospheric Administration, 1201 NE. Lloyd Boulevard, Suite 1100, Portland, OR 97232, Phone: 503 231-6266, Email: barry.thom@noaa.gov.

RIN: 0648-BG23

37. Reducing Disturbances to Hawaiian Spinner Dolphins From Human Interactions

Legal Authority: 16 U.S.C. 1361 et seq.

Abstract: This action would implement regulatory measures under the Marine Mammal Protection Act to protect Hawaiian spinner dolphins that are resting in protected bays from take due to close approach interactions with humans.

Timetable:

Action | Date | FR Cite
ANPRM | 12/12/05 | 70 FR 73426
ANPRM Comment Period End | 01/11/06
NPRM | 08/24/16 | 81 FR 57854
NPRM Comment Period End | 10/23/16
NPRM Comment Period Reopened | 11/16/16 | 81 FR 80629
Comment Period End | 12/01/16
Final Action | 09/00/17

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-AU02

38. Designation of Critical Habitat for the Gulf of Maine, New York Bight, and Chesapeake Bay Distinct Population Segments of Atlantic Sturgeon

Legal Authority: 16 U.S.C. 1531 et seq.

Abstract: The National Marine Fisheries Service listed four distinct population segments of Atlantic sturgeon as endangered—and one distinct population of Atlantic sturgeon as threatened—under the Endangered Species Act on February 6, 2012. This rule would designate critical habitat for the Gulf of Maine, New York Bight, and Chesapeake Bay Distinct Population Segments of Atlantic sturgeon. A separate rule would designate critical habitat for the Carolina and South Atlantic distinct population segments of Atlantic sturgeon.

Timetable:

Action | Date | FR Cite
NPRM | 06/03/16 | 81 FR 35701
NPRM Comment Period End | 09/01/16
NPRM Comment Period Reopened | 09/29/16 | 81 FR 66911
NPRM Comment Period End | 10/14/16
Final Action | 06/00/17

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BF28

39. • Regulation To Reduce Incidental Bycatch and Mortality of Sea Turtles in the Southeastern U.S. Shrimp Fisheries

Legal Authority: 16 U.S.C. 1531 et seq.

Abstract: The purpose of the proposed action is to aid in the protection and recovery of listed sea turtle populations by reducing incidental bycatch and mortality of small sea turtles in the Southeastern U.S. shrimp fisheries. As a result of new information on sea turtle bycatch in shrimp trawls and turtle excluder device testing, NMFS conducted an evaluation of the Southeastern U.S. shrimp fisheries that resulted in a draft environmental impact statement. This rule proposes to withdraw the alternative tow time restriction, which would require all vessels using skimmer trawls, pusher-head trawls, and wing nets (butterfly trawls), with the exception of vessels participating in the Biscayne Bay wing net fishery in Miami-Dade County, Florida, to use turtle excluder devices designed to exclude small sea turtles.

Timetable:

Action | Date | FR Cite
NPRM | 12/16/16 | 81 FR 91097
NPRM Comment Period End | 02/14/17
Final Action | 06/00/17

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG45

DEPARTMENT OF COMMERCE (DOC)

National Oceanic and Atmospheric Administration (NOAA)

Long-Term Actions

National Marine Fisheries Service

40. Amendment 39 to the Fishery Management Plan for the Reef Fish Resources of the Gulf of Mexico

Legal Authority: 16 U.S.C. 1801 et seq.

Abstract: The purpose of this action is to facilitate management of the recreational red snapper component in the reef fish fishery by reorganizing the federal fishery management strategy to better account for biological, social, and economic differences among the regions of the Gulf of Mexico. Regional management would enable regions and their associated communities to specify the optimal management parameters that best meet the needs of their local constituents thereby addressing regional socio-economic concerns.

Timetable:

Action | Date | FR Cite
Notice | 05/13/13 | 78 FR 27956
Next Stage Undetermined | To Be Determined

Regulatory Flexibility Analysis Required: Yes.

Agency Contact: Roy E. Crabtree, Phone: 727 824-5305, Fax: 727 824-5308, Email: roy.crabtree@noaa.gov.

RIN: 0648-BD25

41. Implementation of a Program for Transshipments by Large Scale Fishing Vessels in the Eastern Pacific Ocean

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: Criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
NPRM | 05/00/18

Regulatory Flexibility Analysis Required: Yes.

Agency Contact: Barry Thom, Phone: 503 231-6266, Email: barry.thom@noaa.gov.

RIN: 0648-BD59

42. Designation of Critical Habitat for the Arctic Ringed Seal

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
Final Action | To Be Determined

Regulatory Flexibility Analysis Required: Yes.

Agency Contact: Donna Wieting, Phone: 301 427-8400.

RIN: 0648-BC56

NOS/ONMS

43. Mallows Bay-Potomac River National Marine Sanctuary Designation

Legal Authority: 16 U.S.C. 1431 et seq.

Abstract: On September 16, 2014, pursuant to section 304 of the National Marine Sanctuaries Act (NMSA) and the Sanctuary Nomination Process (79 FR 33851), a coalition of community groups submitted a nomination asking NOAA to designate Mallows Bay-Potomac River as a national marine sanctuary. The Mallows Bay area of the tidal Potomac River being considered for designation as a national marine sanctuary is an area 40 miles south of Washington, DC, off the Nanjemoy Peninsula of Charles County, MD. The designation of a national marine sanctuary would focus on conserving the collection of maritime heritage resources (shipwrecks) in the area as well as expand the opportunities for public access, recreation, tourism, research, and education. NOAA completed its review of the nomination in accordance with the Sanctuary Nomination Process and on January 12, 2015, added the area to the inventory of nominations that are eligible for designation. On October 7, 2015, NOAA issued a notice of intent to begin the designation process and asked for public comment on making this area a national marine sanctuary. Designation under the NMSA would allow NOAA to supplement and complement work by the State of Maryland and other federal agencies to protect this collection of nationally significant shipwrecks.

Timetable:

Action | Date | FR Cite
NPRM | 01/09/17 | 82 FR 2254
NPRM Comment Period End | 03/31/17
Final Action | 05/00/18

Regulatory Flexibility Analysis Required: Yes.

Agency Contact: Vicki Wedell, Phone: 301 713-7237, Fax: 301 713-0404, Email: vicki.wedell@noaa.gov.

RIN: 0648-BG02

DEPARTMENT OF COMMERCE (DOC)

National Oceanic and Atmospheric Administration (NOAA)

Completed Actions

44. Capital Construction Fund; Fishing Vessel Capital Construction Fund Procedures

Legal Authority: 46 U.S.C. 1177 et seq.

Abstract: This action would amend Fishing Vessel Capital Construction Fund (CCF) Program regulations to simplify and clarify them and to ease restrictions on vessel reconstruction to promote fleet safety, reliability and efficiency. Current regulations require an annual deposit of 2 percent of the anticipated cost of the CCF objective, that a used vessel acquired with CCF funds be reconstructed within 7 years of the acquisition date, that reconstruction projects cost a minimum of either $100,000 or 20 percent of acquisition cost, and that reconstruction projects be completed within 18 months of their commencement.

Timetable:

Action | Date | FR Cite
NPRM | 09/25/14 | 79 FR 57496
NPRM Comment Period End | 11/10/14
Final Action | 05/30/17 | 82 FR 24561
Final Action Effective | 06/29/17

Regulatory Flexibility Analysis Required: Yes.

Agency Contact: Brian Pawlak, Department of Commerce, National Oceanic and Atmospheric Administration, 1315 East-West Highway, Silver Spring, MD 20910, Phone: 301 427-8621, Email: brian.t.pawlak@noaa.gov.

RIN: 0648-AW57

45. Amendment 5B to the Highly Migratory Species Fishery Management Plan

Legal Authority: 16 U.S.C. 1801 et seq.; 16 U.S.C. 971 et seq.

Abstract: This rulemaking would implement management measures for dusky sharks based on the latest stock assessment, which determined dusky sharks are still overfished and still experiencing overfishing, taking into consideration comments received on the proposed rule and Amendment 5 to the 2006 Consolidated Highly Migratory Species Fishery Management Plan. This rulemaking considers a range of commercial and recreational management measures in both directed and incidental shark fisheries including, among other things, gear modifications, time/area closures, permitting, shark identification requirements, and reporting requirements.

Timetable:

Action | Date | FR Cite
NPRM | 10/18/16 | 81 FR 71672
Public Hearing | 11/14/16 | 81 FR 79409
NPRM Comment Period End | 12/22/16
Final Action | 04/04/17 | 82 FR 16478
Final Action Effective | 06/05/17

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD22

46. Regulatory Amendment 16 to the Fishery Management Plan for the Snapper-Grouper Fishery of the South Atlantic Region

Legal Authority: 16 U.S.C. 1801 et seq.

Abstract: Regulatory Amendment 16 contained an action to address the prohibition on the use of black sea bass pots annually from November 1 through April 30 that was implemented through Regulatory Amendment 19. The prohibition was a precautionary measure to prevent interactions between black sea bass pot gear and whales listed under the Endangered Species Act during large whale migrations and the right whale calving season off the southeastern coast. The South Atlantic Fishery Management Council, through Regulatory Amendment 16, removed the closure, changed the length of the closure, and changed the area of the closure. The goal was to minimize adverse socio-economic impacts to black sea bass pot endorsement holders while maintaining protection for Endangered Species Act-listed whales in the South Atlantic region.

Timetable:

Action | Date | FR Cite
NPRM | 08/11/16 | 81 FR 53109
NPRM Comment Period End | 09/12/16
Final Rule | 12/29/16 | 81 FR 95893
Final Rule Effective | 01/30/17
Stay of Final Rule | 01/31/17 | 82 FR 8820
Correction | 02/21/17 | 82 FR 11156
Correction Effective | 02/21/17
Stay of Final Rule Effective | 03/21/17

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD78

47. Magnuson-Stevens Fisheries Conservation and Management Act; Seafood Import Monitoring Program

Legal Authority: 16 U.S.C. 1857 et seq.

Abstract: The National Marine Fisheries Service implemented regulatory changes to improve the administration of the Magnuson-Stevens Fisheries Conservation and Management Act prohibition on the entry into interstate or foreign commerce of any fish taken in violation of any foreign law or regulation. The rule included adjustments to permitting and reporting requirements to provide for traceability of seafood products offered for entry into the U.S. supply chain, and to ensure that these products were lawfully acquired and are properly labeled. Requirements for an international trade permit and reporting on the origin of certain imported or exported fishery products were previously established by regulations applicable to a number of specified fishery products. This rulemaking extended those existing permitting and reporting requirements to additional fish species and seafood products.

Timetable:

Action | Date | FR Cite
NPRM | 02/05/16 | 81 FR 6210
NPRM Comment Period Extended | 03/31/16 | 81 FR 18558
NPRM Comment Period End | 04/05/16
NPRM Comment Period End | 04/12/16
Final Rule | 12/09/16 | 81 FR 88975
Final Rule Effective | 01/09/17

Regulatory Flexibility Analysis Required: Yes.

Agency Contact: John Henderschedt, Director, Office for International Affairs and Seafood Inspection, Department of Commerce, National Oceanic and Atmospheric Administration, 1315 East West Highway, Room 10362, Silver Spring, MD 20910, Phone: 301 427-8314, Email: john.henderschedt@noaa.gov.

RIN: 0648-BF09

48. Allow the Use of Longline Pot Gear in the Gulf of Alaska Sablefish Individual Fishing Quota Fishery

Legal Authority: 16 U.S.C. 1801 et seq.; 16 U.S.C. 773 et seq.

Abstract: This action amended Federal regulations to allow fishermen to use longline pot gear to harvest sablefish in the Gulf of Alaska Individual Fishing Quota fishery. Hook-and-line gear is currently the only authorized gear type in the sablefish Individual Fishing Quota fishery. The action authorized Individual Fishing Quota fishermen to use either longline pot gear or hook-and-line gear in the sablefish Individual Fishing Quota fishery. Some fishermen would like to use longline pot gear because it is less prone to whale interactions than hook-and-line gear. The action established management measures to minimize conflicts between hook-and-line and longline pot gear on the fishing grounds and to prevent significant consolidation of sablefish Individual Fishing Quota onto fewer vessels.

Timetable:

Action | Date | FR Cite
Notice of Availability | 08/08/16 | 81 FR 52394
NPRM | 08/19/16 | 81 FR 55408
NPRM Comment Period End | 09/19/16
Final Rule | 12/28/16 | 81 FR 95435
Final Rule Effective | 01/27/17
Stay of Final Rule | 01/31/17 | 82 FR 8810
Stay of Final Rule Effective | 01/31/17
Final Action | 02/07/17 | 82 FR 9501
Final Action Effective | 03/11/17

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF42

49. Atlantic Highly Migratory Species; Atlantic Blacknose Shark Commercial Retention Limit

Legal Authority: 16 U.S.C. 1801 et seq.; 16 U.S.C. 971 et seq.

Abstract: This rule evaluated the management measures for blacknose sharks in the Atlantic region. It considered, among other things, a range of commercial management measures in both directed and incidental shark fisheries including, but not limited to, retention limits. In addition, this action addressed commercial retention limits to help prevent early closures of the non-blacknose small coastal shark management group and fully utilize the quota.

Timetable:

Action | Date | FR Cite
NPRM | 08/03/16 | 81 FR 51165
NPRM Comment Period End | 09/20/16
Final Action | 12/14/16 | 81 FR 90241
Final Action Effective | 01/13/17

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BF49

50. Amendment 113 to the FMP for Groundfish of the BSAI To Establish a Catcher Vessel Fishing Period and Shoreside Processing Delivery Requirements for Aleutian Islands Pacific Cod

Legal Authority: 16 U.S.C. 1801 et seq.

Abstract: This rule restricted participation in the Aleutian Islands Pacific cod fishery. This action was necessary to provide stability to catcher vessels that participate in the Aleutian Islands Pacific cod fishery and the shoreside processors to which they deliver, and to the communities in which these processors are located. Specifically, this rule established catch limits for Pacific cod in the Aleutian Islands and the Bering Sea. The revised allocation was intended to provide catcher vessels with a sufficient opportunity to harvest Pacific cod in an inshore fishery by restricting participation in the fisheries by catcher processors that can harvest significantly larger volumes of Pacific cod further offshore. This rule included provisions to relieve the restrictions on catcher processor participation if catcher vessels would not be able to harvest the allocation or Aleutian Islands shoreside processors would not be able to process catcher vessel harvests of Pacific cod.

Timetable:

Action | Date | FR Cite
Notice of Availability | 07/19/16 | 81 FR 46883
NPRM | 08/01/16 | 81 FR 50444
NPRM Comment Period End | 08/31/16
Final Action | 11/23/16 | 81 FR 84434
Final Action Effective | 11/23/16

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF54

51. Specification of Management Measures for Atlantic Herring for the 2016-2018 Fishing Years

Legal Authority: 16 U.S.C. 1801 et seq.

Abstract: The Atlantic herring fishery specifications were annual catch amounts for the 2016-2018 fishing years, January-December. These specifications are required by regulation to be set for 3 years. These specifications changed the current catch limit levels and continued to prevent overfishing of the herring resource and achieve optimum yield. The catch limits established in these specifications set a constant catch amount available to the industry that provided a stable allowable catch for 3-year business planning purposes. In addition, the specifications added catch that was not caught under last year's catch limit for one management area and reduced catch that exceeded the catch limits set in other management areas. Finally, the specifications set annual gear-specific and area-specific catch caps for river herring and shad, consistent with Framework Adjustment 3 to the Atlantic Herring Fishery Management Plan.

Timetable:

Action | Date | FR Cite
NPRM | 06/21/16 | 81 FR 40253
NPRM Comment Period End | 07/21/16
Final Action | 11/01/16 | 81 FR 75731
Final Action Effective | 12/01/16

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF64

52. Amendment 19 to the Atlantic Sea Scallop Fishery Management Plan

Legal Authority: 16 U.S.C. 1801 et seq.

Abstract: Amendment 19 incorporated a specifications process into the Atlantic Sea Scallop Fishery Management Plan and changed the start of the fishing year. Developing specifications to set annual or biennial allocations will allow for a more efficient process for setting annual allocations than currently possible through framework adjustments. By adjusting the start of the scallop fishing year, the National Marine Fisheries Service would be able to implement simple specifications actions at the start of the fishing year on a more consistent basis.

Timetable:

Action | Date | FR Cite
Notice of Availability | 07/20/16 | 81 FR 47152
NPRM | 08/16/16 | 81 FR 54533
NPRM Comment Period End | 09/15/16
Final Action | 11/03/16 | 81 FR 76516
Final Action Effective | 12/05/16

Regulatory Flexibility Analysis Required: No.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF72

53. Observer Coverage Requirements for Catcher Vessels Using Trawl Gear in the Bering Sea and Aleutian Islands Management Area

Legal Authority: 16 U.S.C. 1801 et seq.

Abstract: This rule allowed the owner of a catcher vessel in the Bering Sea and Aleutian Islands Management Area trawl limited access fisheries to annually choose to have the vessel placed in the full observer coverage category for all fishing in the Bering Sea and Aleutian Islands Management Area in the upcoming year. Under the previous regulations for the North Pacific Groundfish and Halibut Observer Program, catcher vessels in the Bering Sea and Aleutian Islands Management Area trawl limited access fisheries were assigned to the partial observer coverage category. Vessels in the partial observer coverage category must carry an observer on selected fishing trips, whereas vessels in the full observer coverage category must carry an observer for all of their fishing activity. Owners of trawl catcher vessels requested to be allowed to voluntarily choose full coverage to obtain observer data from all of their fishing trips to better manage their halibut prohibited species catch.

Timetable:

Action | Date | FR Cite
NPRM | 07/07/16 | 81 FR 44251
NPRM Comment Period End | 08/08/16
Final Action | 09/30/16 | 81 FR 67113
Final Action Effective | 10/31/16

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF80

54. Framework Amendment 1 to the Dolphin and Wahoo Fishery Management Plan of the Atlantic

Legal Authority: 16 U.S.C. 1801 et seq.

Abstract: Dolphin Wahoo 1 established a commercial trip limit after a specified percentage of the commercial sector annual catch limit has been reached and would continue until the end of the fishing year or until the entire commercial annual catch limit is met, whichever comes first.

Timetable:

Action | Date | FR Cite
NPRM | 06/30/16 | 81 FR 42625
NPRM Comment Period End | 08/01/16
Final Rule | 12/29/16 | 81 FR 96388
Final Rule Effective | 01/30/17
Stay of Final Rule | 01/31/17 | 82 FR 8820
Delayed Effective Date | 03/21/17

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF81

55. Amendment 103 to the Fishery Management Plan for Groundfish of the Gulf of Alaska To Reapportion Chinook Salmon Prohibited Catch in the Gulf of Alaska Trawl Fisheries

Legal Authority: 16 U.S.C. 1801 et seq.; 16 U.S.C. 3631 et seq.; 16 U.S.C. 773 et seq.; Pub. L. 08-199

Abstract: This action allowed the National Marine Fisheries Service to reapportion unused Chinook salmon prohibited species catch within and between trawl sectors in the Gulf of Alaska groundfish fisheries to reduce the potential for early fishery closures. Amendments 93 and 97 to the Fishery Management Plan for Groundfish of the Gulf of Alaska and implementing regulations established Chinook salmon prohibited species catch limits for pollock and non-pollock trawl fisheries. Specifically, this action: Allowed the National Marine Fisheries Service to reapportion remaining Chinook salmon prohibited species catch among trawl catcher vessel sectors and from the trawl catcher/processor sector to trawl catcher vessel sectors based on criteria established for inseason reapportionments and within specified limits; increased management flexibility without exceeding the current overall 32,500 Chinook salmon prohibited species catch limit or negating the current prohibited species catch limits under Amendments 93 and 97; and increased the likelihood that groundfish resources are more fully harvested, and minimized the adverse socioeconomic impacts of the fishery closures on harvesters, processors, and communities.

Timetable:

Action | Date | FR Cite
Notice of Availability | 05/26/16 | 81 FR 33456
NPRM | 06/16/16 | 81 FR 39237
NPRM Comment Period End | 07/18/16
Final Action | 09/12/16 | 81 FR 62659
Final Action Effective | 10/12/16

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF84

56. Framework Action To Adjust the Red Grouper Allowable Harvest in the Gulf of Mexico

Legal Authority: 16 U.S.C. 1801 et seq.

Abstract: This Framework Action adjusted the red grouper allowable harvest in the Gulf of Mexico, consistent with the results of a 2015 stock assessment. The commercial annual catch limit and annual catch target were adjusted from 6.03 million pounds gutted weight and 5.72 million pounds gutted weight, to 8.19 million pounds gutted weight, and 7.78 million pounds gutted weight, respectively. The recreational annual catch limit and annual catch target were adjusted from 1.9 million pounds gutted weight and 1.73 million pounds gutted weight, to 2.58 million pounds gutted weight, and 2.37 million pounds gutted weight, respectively. These increases in the annual catch limits and annual catch targets provided more quota to the commercial fisherman and were expected to extend the recreational fishing season, which has been closed in-season in recent years, through the end of the year.

Timetable:

Action | Date | FR Cite
NPRM | 07/26/16 | 81 FR 48728
NPRM Comment Period End | 08/25/16
Final Action | 10/12/16 | 81 FR 70365
Final Action Effective | 10/12/16

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG12

57. Amendment 45 to the Fishery Management Plan for the Reef Fish Resources of the Gulf of Mexico

Legal Authority: 16 U.S.C. 1801 et seq.

Abstract: The Gulf of Mexico Fishery Management Council developed and implemented separate federal for-hire and private angling components for red snapper management measures to better prevent overfishing while achieving the optimum yield. Amendment 40 defined the components, allocated the recreational red snapper quota between the components, and established a three-year sunset provision for the components. The purpose of this action was to extend the sector separation sunset provision established in Amendment 40 for five additional years to allow completion of component-focused management strategies.

Timetable:

Action | Date | FR Cite
Notice of Availability | 08/25/16 | 81 FR 58466
NPRM | 09/08/16 | 81 FR 62069
NPRM Comment Period End | 10/24/16
Final Action | 12/02/16 | 81 FR 86971
Correction | 12/07/16 | 81 FR 88135
Final Action Effective | 01/03/17

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG19

58. • Framework Adjustment 28 to the Atlantic Sea Scallop Fishery Management Plan

Legal Authority: 16 U.S.C. 1801 et seq.

Abstract: This action sets management measures for the scallop fishery for the 2017 fishing year, including the annual catch limits and annual catch targets for the limited access and fleets, as well as days-at-sea allocations and sea scallop access area trip allocations. Furthermore, Framework 28 would implement additional measures to set the limited access general category individual fishing quota based on spatial management, prevent the shucking of scallops off the days-at-sea clock, and reduce discard mortality.

Timetable:

Action | Date | FR Cite
NPRM | 01/19/17 | 82 FR 6472
NPRM Comment Period End | 02/07/17
Final Action Effective | 03/23/17
Final Action | 03/27/17 | 82 FR 15155

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BG46

59. Designation of Critical Habitat for the Carolina and South Atlantic Distinct Population Segments of Atlantic Sturgeon

Legal Authority: 16 U.S.C. 1531 et seq.

Abstract: The National Marine Fisheries Service listed four distinct population segments of Atlantic sturgeon as endangered—and one distinct population of Atlantic sturgeon as threatened—under the Endangered Species Act on February 6, 2012. This action proposes to designate critical habitat for the Carolina and South Atlantic Distinct Population Segments of Atlantic sturgeon, both listed as endangered.

Timetable:

Action | Date | FR Cite
NPRM | 06/03/16 | 81 FR 36077
Correction | 06/28/16 | 81 FR 41926
NPRM Comment Period End | 09/01/16
NPRM Comment Period Reopened | 09/29/16 | 81 FR 66911
NPRM Comment Period End | 10/14/16
Merged With 0648-BF28 | 03/23/17

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BF32

60. Endangered and Threatened Species; Critical Habitat for the Threatened Caribbean Corals

Legal Authority: 16 U.S.C. 1531 et seq.

Abstract: The National Marine Fisheries Service listed five Caribbean corals in the Southeast Region as threatened under the Endangered Species Act on October 10, 2014. This rule proposes to designate critical habitat for the five listed corals and revises critical habitat for the previously-listed corals Acropora palmata and Acropora cervicornis.

Timetable:

Action | Date | FR Cite
Merged With 0648-BG26 | 05/01/17

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BG20

[FR Doc. 2017-16888 Filed 8-23-17; 8:45 am]

BILLING CODE 3510-12-P